DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of six persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT:

OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On February 9, 2018, OFAC determined that the property and interests in property subject to U.S. jurisdiction of the following persons are blocked under the relevant sanctions authority listed below.

Individuals

1. YUSUF, Mohamed Mire Ali (a.k.a. ALI, Mohamed Mire; a.k.a. MIRE, Mohamed; a.k.a. MIRE, Mohamed Ali; a.k.a. MIRE, Muhammad), Puntland, Somalia; Dubai, United Arab Emirates; DOB 1975; alt. DOB 1974; alt. DOB 1976; nationality Somalia; Gender Male (individual) [SDGT] (Linked To: ISLAMIC STATE OF IRAQ AND THE LEVANT).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, ISLAMIC STATE OF IRAQ AND THE LEVANT, an entity determined to be subject to E.O. 13224.

2. SAKARYA, Yunus Emre (a.k.a. “AL-ALMANI, Yunus”; a.k.a. “AL-HAIEBI, Younes”), Al Mayadin, Syria; Turkey; DOB 22 Apr 1991; POB Bruhl, Germany; citizen Germany; alt. citizen Turkey; Gender Male; Passport C7480TP630 (Germany); National ID No. L749X688M2 (Germany); alt. National ID No. 523884049 (Germany) (individual) [SDGT] (Linked To: ISLAMIC STATE OF IRAQ AND THE LEVANT).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, ISLAMIC STATE OF IRAQ AND THE LEVANT, an entity determined to be subject to E.O. 13224.

3. ABUBAKAR, Abdulpatta Escalon (a.k.a. ABUBAKAR, Abdul Patta Escalon; a.k.a. ESCALON, Abdulpatta Abubakar; a.k.a. “ABU BAKAR, Abdul Patta”), Philippines; Jeddah, Saudi Arabia; Daina, Saudi Arabia; DOB 03 Mar 1965; alt. DOB 01 Jan 1965; alt. DOB 11 Jan 1965; POB Tuburan, Basilan Province, Philippines; nationality Philippines; Gender Male; Passport EC6530802 (Philippines) expires 19 Jan 2021; alt. Passport EB2778599 (Philippines); National ID No. 2135314355 (Saudi Arabia); alt. National ID No. 202112421 (Saudi Arabia) (individual) [SDGT] (Linked To: ISLAMIC STATE OF IRAQ AND THE LEVANT).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, ISLAMIC STATE OF IRAQ AND THE LEVANT, an entity determined to be subject to E.O. 13224.

Entities

1. AL-MUTAFAQ COMMERCIAL COMPANY, Boosaaso, Somalia [SDGT] (Linked To: YUSUF, Mohamed Mire Ali).

Designated pursuant to section 1(c) of Executive Order 13224 of September 23, 2001, “Blocking Property and Prohibiting Transactions With Persons Who Commit, Threaten to Commit, or Support Terrorism” (E.O. 13224) for being owned or controlled by YUSUF, MOHAMED MIRE ALI, an individual determined to be subject to E.O. 13224.

2. LIIBAAN TRADING (a.k.a. LIBAN TRADING; a.k.a. LIIBAN TRADING), Boosaaso, Somalia [SDGT] (Linked To: YUSUF, Mohamed Mire Ali).

Designated pursuant to section 1(c) of Executive Order 13224 of September 23, 2001, “Blocking Property and Prohibiting Transactions With Persons Who Commit, Threaten to Commit, or Support Terrorism” (E.O. 13224) for being owned or controlled by YUSUF, MOHAMED MIRE ALI, an individual determined to be subject to E.O. 13224.

3. PROFESYONELLER ELEKTRONIK (a.k.a. PROFESSIONALS ELECTRONIC TRADE IMPORT AND EXPORT LIMITED COMPANY; a.k.a. PROFESYONELLER ELEKTRONIK TICARET; a.k.a. “PROFESYONELLER ELEKTRONIK TIC ITH VE IHR LTD. STI”), Kecioren, Ankara, Turkey [SDGT] (Linked To: ISLAMIC STATE OF IRAQ AND THE LEVANT; Linked To: SAKARYA, Yunus Emre).

Designated pursuant to section 1(c) of Executive Order 13224 of September 23, 2001, “Blocking Property and Prohibiting Transactions With Persons Who Commit, Threaten to Commit, or Support Terrorism” (E.O. 13224) for being owned or controlled by SAKARYA, YUNUS EMRE, an individual determined to be subject to E.O. 13224.

Also designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, ISLAMIC STATE OF IRAQ AND THE LEVANT, an entity determined to be subject to E.O. 13224.

Dated: February 9, 2018.
John E. Smith,
Director, Office of Foreign Assets Control.

[FR Doc. 2018-06693 Filed 4-2-18; 8:45 am]

BILLING CODE 4810-AL-P